DEPARTMENT OF HEALTH AND HUMAN SERVICES

National Committee on Vital and Health Statistics: Notice of Meeting and Request for Public Comment

Pursuant to the Federal Advisory Committee Act, the Department of Health and Human Services (HHS) announces the following advisory committee meeting.

Name: National Committee on Vital and Health Statistics (NCVHS), Hearing of the Subcommittee on Privacy, Confidentiality and Security

DATES: Wednesday July 14, 2021: 9:30 a.m.-5:30 p.m. EST.

ADDRESSES: Virtual open meeting.

FOR FURTHER INFORMATION CONTACT: Substantive program information may be obtained from Rebecca Hines, MHS, Executive Secretary, NCVHS, National Center for Health Statistics, Centers for Disease Control and Prevention, 3311 Toledo Road, Hyattsville, Maryland 20782, or via electronic mail to vgh4@cdc.gov; or by telephone (301) 458-4715. Summaries of meetings and a roster of Committee members are available on the home page of the NCVHS website, https://ncvhs.hhs.gov/, where further information including an agenda and instructions to access the broadcast of the meeting will also be posted.

Should you require reasonable accommodation, please contact the CDC Office of Equal Employment Opportunity on (770) 488-3210 as soon as possible.

SUPPLEMENTARY INFORMATION: On July 14, 2021, the National Committee on Vital and Health Statistics (NCVHS), Subcommittee on Privacy, Confidentiality, and Security, will seek input from experts to examine solutions for improving the security posture of the healthcare industry. At the hearing, the Subcommittee will hear from invited experts on the range of security challenges affecting the health care industry and business partners. The Subcommittee will also hear about the range of policy options that may be available to the Department of Health and Human Services (HHS) and data stewards to improve the security posture of those organizations holding individually identifiable information (III), including federal, state, local, and tribal organizations.

The Committee will use this input to identify and describe the changing security landscape and risks to the privacy and security of III held by the health care industry and highlight promising policies, practices, and technologies. The Committee will lay out integrative models for how best to secure individually identifiable information while enabling beneficial uses, services, and technologies. The Committee will formulate recommendations for the Secretary on actions that HHS might take and prepare a report for the Secretary.

The Committee requests comments from the public in advance of the hearing to inform its deliberations and will consider them together with the input of subject matter experts at the hearing. Please submit comments to NCVHSmail@cdc.gov by close of business Tuesday, July 13, 2021. There also will be a public comment period at the meeting. The meeting times and topics are subject to change. Please refer to the NCVHS website for information and agenda updates.

Sharon Arnold,
Associate Deputy Assistant Secretary for Planning and Evaluation, Science and Data Policy, Office of the Assistant Secretary for Planning and Evaluation.

[FR Doc. 2021-13329 Filed 6-23-21; 8:45 am]

BILLING CODE 4150-05-P